DEPARTMENT OF HEALTH AND HUMAN SERVICES

National Institutes of Health

Center for Scientific Review; Amended Notice of Meeting

Notice is hereby given of a change in the meeting of the Xenobiotic and Nutrient Disposition and Action Study Section, June 8, 2011, 8 a.m. to June 8, 2011, 6 p.m., Sir Francis Drake Hotel, 450 Powell Street, San Francisco, CA, 94102 which was published in the Federal Register on April 29, 2011, 76 FR 24036-24038.

The meeting will be held at The Westin St. Francis Hotel, 335 Powell Street, San Francisco, CA 94102. The meeting date and time remain the same. The meeting is closed to the public.

Dated: May 17, 2011.
Jennifer S. Spaeth,
Director, Office of Federal Advisory Committee Policy.

[FR Doc. 2011-12737 Filed 5-23-11; 8:45 am]

BILLING CODE 4140-01-P